DEPARTMENT OF LABOR

Occupational Safety and Health Administration

29 CFR Part 1926

[Docket No. S-030]

RIN 1218-AC01

Safety Standards for Cranes and Derricks

AGENCY: Occupational Safety and Health Administration (OSHA), U.S. Department of Labor.

ACTION: Notice of cancellation of March 29, 30, and 31, 2004, Negotiated Rulemaking Committee meeting.

SUMMARY: The Occupational Safety and Health Administration (OSHA) announces the cancellation of the ninth meeting of the Crane and Derrick Negotiated Rulemaking Advisory Committee (C-DAC) previously scheduled for March 29, 30, and 31, 2004. The next C-DAC meeting will be held May 2004. A Federal Register notice specifying the exact dates and times for this meeting will be published at a later time.

John L. Henshaw,
Assistant Secretary of Labor for Occupational Safety and Health.

[FR Doc. 04-5746 Filed 3-12-04; 8:45 am]

BILLING CODE 4510-26-P